DEPARTMENT OF THE INTERIOR

National Park Service

[NPS-WASO-NAGPRA-NPS0040154; PPWOCRADN0-PCU00RP14.R50000]

Notice of Inventory Completion: South Carolina Institute of Archaeology and Anthropology, Columbia, SC; South Carolina Department of Parks, Recreation, and Tourism, Columbia, SC; South Carolina State Museum, Columbia, SC; U.S. Department of the Interior, Fish and Wildlife Service, Pinckney Island National Wildlife Refuge, Hardeeville, SC, and Santee National Wildlife Refuge, Summerton, SC; University of North Carolina at Chapel Hill, Research Laboratories of Archaeology, Chapel Hill, NC; and Yale Peabody Museum, New Haven, CT

AGENCY: National Park Service, Interior.

ACTION: Notice.

SUMMARY: In accordance with the Native American Graves Protection and Repatriation Act (NAGPRA), the South Carolina Institute of Archaeology and Anthropology (SCIAA); South Carolina Department of Parks, Recreation, and Tourism (SCPRT); South Carolina State Museum; U.S. Department of the Interior, Fish and Wildlife Service (US FWS) Pinckney Island National Wildlife Refuge and Santee National Wildlife Refuge; University of North Carolina at Chapel Hill, Research Laboratories of Archaeology; and Yale Peabody Museum, hereafter the Collaborating Museums, have completed an inventory of human remains and associated funerary objects and have determined that there is a cultural affiliation between the human remains and associated funerary objects and Indian Tribes or Native Hawaiian organizations in this notice.

DATES: Repatriation of the human remains and associated funerary objects in this notice may occur on or after June 16, 2025.

ADDRESSES: Nina Schreiner, South Carolina Institute of Archaeology and Anthropology, College of Arts and Sciences, University of South Carolina, 1321 Pendleton Street, Columbia, SC 29208, telephone (803) 576-6583, email: schreinn@email.sc.edu.

SUPPLEMENTARY INFORMATION: This notice is published as part of the National Park Service's administrative responsibilities under NAGPRA. The determinations in this notice are the sole responsibility of the Collaborating Museums, and additional information on the determinations in this notice, including the results of consultation, can be found in its inventory or related records. The National Park Service is not responsible for the determinations in this notice.

Abstract of Information Available

South Carolina Region 1 (Northeast Counties)

Clarendon County

Human remains representing, at least one individual have been identified. No associated funerary objects are present. The individual was removed from site 38CR1, Santee Mound/Fort Watson, Clarendon County, SC, in 1963 by Joffre Coe and Bennie Keel of the University of North Carolina-Chapel Hill. The individual may be associated with the Pee Dee phase (ca. 1000-1500 CE) occupation of the site. This holding is in the possession or control of the US FWS Santee National Wildlife Refuge.

Human remains representing, at least, four individuals have been identified. The five associated funerary objects are one lot consisting of ceramic objects and one lot consisting of lithic objects, and three funerary urns. One individual was removed from site 38CR19/40, Persanti Island, Clarendon County, SC, in 1967 by Robert Shannon Jennings and released to SCIAA in 2010. A second individual was removed from site 38CR19/40, Persanti Island, in 1994 by an unknown person who released them to the Clarendon County Sheriff's Department. The Clarendon County Sheriff's Department released the individual to SCIAA in 1994. Two individuals and associated funerary objects were removed from site 38CR80, Persanti Island, in 1979 by Gerral L. Thomas who transferred them to SCIAA in 1982. Three funerary urns were removed from either 38CR19/40 or 38CR80, Persanti Island, in the 1970s by Tony Harper and donated to the Laurens County Museum in 2020 by the Tony Harper Family. The associated funerary objects from the Tony Harper collection were transferred to SCIAA in 2024 to facilitate repatriation. These holdings are in the possession or control of SCIAA.

The one associated funerary object is one funerary urn with lid dated 1400-1500 CE. The associated funerary object was collected from an island in Lake Marion, SC, by Robert Lamar Adams in September 1966 and donated to the South Carolina State Museum in April 1988. This holding is in the possession or control of the South Carolina State Museum.

Darlington County

Human remains representing, at least, 10 individuals have been identified. The four associated funerary objects are one lot ceramic material, one lot lithic material, one lot faunal material, one lot botanical material. One individual and associated funerary objects were removed from 38DA66, Dunlap, Darlington County, SC, by Tommy Charles of SCIAA in 1984, with the permission of the property owner, C.K. Dunlap. Nine individuals and associated funerary objects were removed from site 38DA66, Dunlap, by Chester DePratter of SCIAA in 1984 and 1985, with permission of the property owner, C.K. Dunlap. The site dates 700-1300 CE. This holding is in the possession or control of SCIAA.

Georgetown County

Human remains representing, at least, one individual have been identified. The one associated funerary object is one lot consisting of glass beads. The individual and associated funerary object were removed from an unknown location near Murrells Inlet Bluff in Georgetown County, SC, by Arthur C. McCall at an unknown date. McCall released the individual and associated funerary objects to the Greenville Museum, who transferred them to SCIAA in 1975. Associated funerary objects date to 1680-1750 CE. This holding is in the possession or control of SCIAA.

Human remains representing, at least, five individuals have been identified. There is one lot of associated funerary objects. The individuals and associated funerary objects were removed from site 38GE7, Wachesaw Landing, Georgetown County, SC, by Dr. Patricia A. Criddlebaugh of SCIAA in 1985 during pre-development excavations sponsored by Edward D. Stone Jr. and Associates for Wachesaw Plantation Limited Partnership. The site dates to 1000-1700 CE. This holding is in the possession or control of SCIAA.

Human remains representing, at minimum, five individuals were removed from Wachesaw Landing Site (38GE7), Georgetown County, SC. Archaeologists affiliated with the University of North Carolina at Chapel Hill, Research Laboratories of Archaeology conducted excavations at the site in March 1982. No burials were identified, but one humerus and two skull fragments were found in three different excavation units. These bones were likely from burials disturbed by plowing and other activities at the Wachesaw Plantation homesite. In addition, University of North Carolina at Chapel Hill, Research Laboratories of Archaeology is in possession of the skulls of two additional individuals from Wachesaw Landing that lack specific provenience information. Complicated-stamped pottery and glass beads recovered during excavations suggest site use between A.D. 1000 and A.D. 1700. No known individuals were identified. No associated funerary objects are present. This holding is in the possession or control of the University of North Carolina at Chapel Hill, Research Laboratories of Archaeology.

Human remains representing, at least, 15 individuals have been identified. There is one lot of associated funerary objects. One individual was removed from site 38GE46, Minim Island, Georgetown County, SC, by Parker Lumpkin at an unknown date and transferred to SCIAA ca. 1974. One individual was removed from the same site by Travis L. Bianchi and Robert C. Asreen, Jr. of SCIAA in 1974. Five individuals were removed from the same site by Carolina Archaeological Services in 1982 with permission of landowner C.E. Graham Reeves during excavations contracted by the U.S. Army Corps of Engineers. One individual was removed from the same site by Carolina Archaeological Services in 1987 with permission of landowner C.E. Graham Reeves and transferred to SCIAA in 1990. Seven individuals were removed from the same site by Brockington and Associates, Inc. in 1988 with permission of the same property owner during excavations contracted by the U.S. Army Corps of Engineers and transferred to SCIAA in 1989. The shell midden component of the site from which individuals were removed dates 600-250 BCE. This holding is in the possession or control of SCIAA.

In 1956, human remains representing, at minimum, one individual, were removed from Dudley Site (38GE687), Georgetown County, SC. William Haag conducted surface collections at the site as part of a 1956 south Atlantic coastal survey sponsored by the National Park Service. Two human bone fragments were recovered from the ground surface. Artifacts collected consist of one stone end scraper, one kaolin pipestem, and 35 pottery sherds. The artifacts and individual's remains were transferred from Louisiana State University to University of North Carolina at Chapel Hill, Research Laboratories of Archaeology in 1994. Haag's analysis notes mention the following types of surface decoration on the pottery: fabric impressed, check-stamped, linear check-stamped, complicated stamped, simple stamped, and smoothed (plain). This information suggests the site was used between A.D. 1000 and A.D. 1500. No known individual was identified. No associated funerary objects are present. This holding is in the possession or control of the University of North Carolina at Chapel Hill, Research Laboratories of Archaeology.

Horry County

Human remains representing, at least, 68 individuals have been identified. There is one lot of associated funerary objects. Twenty-six individuals were removed from site 38HR36, Holliday, Horry County, SC, by Dr. Reinhold Engelmayer of Coastal Carolina College in 1979 with permission of landowners Joseph W. Holliday and John M. Holliday. They were subsequently transferred to SCIAA in 1983. Forty-two individuals were removed from the same site by Dr. Ted A. Rathbun of the Department of Anthropology, University of South Carolina, Columbia in 1984 and 1985. They were transferred to SCIAA at an unknown date. The site dates 1000-1300 CE. This holding is in the possession or control of SCIAA.

Lee County

Human remains representing, at least, one individual have been identified. No associated funerary objects are present. In 1973, John Morrow recovered the individual from a surface collection at site 38LE11 Lee State Park, Lee County, SC and brought them to SCIAA. This holding is in the possession or control of the SCPRT.

Marlboro County

In 1966, human remains representing, at minimum, one individual and one funerary object were removed from Powe #4 Site (38ML405), Marlboro County, SC. The site was recorded by University of North Carolina at Chapel Hill, Research Laboratories of Archaeology archaeologist Bennie Keel following the disturbance of a burial urn. The burial urn was encountered by a bulldozer operator during the construction of a dike along the Pee Dee River. Keel collected seven human bone fragments from the area of the disturbed urn. The complicated-stamped urn body and plain smoothed urn cover were collected as 213 pottery sherds; the urn cover has been partly reconstructed. Keel also collected two stone tools, two trade pipe fragments, one deer bone, four metal fragments, one daub fragment, and additional pottery sherds. The site was likely used between A.D. 1000 and A.D. 1500. No known individual was identified. This holding is in the possession or control of University of North Carolina at Chapel Hill, Research Laboratories of Archaeology.

Human remains representing, at minimum, three individuals and one associated funerary object were removed from Wallace Site (38ML201), Marlboro County, SC. In 1967, archaeologists affiliated with University of North Carolina at Chapel Hill, Research Laboratories of Archaeology, collected 10 fragments of human bone from the ground surface, along with stone tools, pottery, a pipe fragment, brick, and glass. In May 1981, graduate students Homes Hogue and Michael Trinkley returned to the site and learned it was to be plowed with a subsoiler, possibly for the first time, and undertook a site survey. On May 29, 1981 teeth of one individual were identified in a shovel test. The shovel test was stopped, and efforts were made to determine the extent of the burial at the base of the plow zone. On June 5, 1981, the individual was excavated given the expectation the burial would be destroyed by subsoil plowing. A stone celt had been placed with the individual. The remains of a child were also identified and excavated at this time. The site was likely used between A.D. 1000 and A.D. 1500. No known individual was identified. This holding is in the possession or control of the University of North Carolina at Chapel Hill, Research Laboratories of Archaeology.

Sumter County

Human remains representing, at least, one individual have been identified. No associated funerary objects are present. Prior to 1890, George I. Spencer collected the remains from the bank of the Wateree River in an unknown location in Sumter County. The remains were transferred to William H. Brewer, Professor at Yale's Sheffield Scientific School, and donated to the Yale Peabody Museum in April 1890.

South Carolina Region 2 (Central Counties)

Richland County

Human remains representing, at least one individual have been identified. Two lots of funerary objects are present. From 1958 to 1961, William Ellis Edwards of SCIAA removed the individual and one lot of funerary objects from site 38RD4 Green Hill Mound in Richland County, SC. In 1969, Leland G. Ferguson, a graduate student at University of North Carolina at Chapel Hill, Research Laboratories of Archaeology, removed one lot of funerary objects from the same site. They were brought to SCIAA at an unknown date. This holding is in the possession or control of SCIAA.

South Carolina Region 3 (Southeast Counties)

Allendale County

Human remains representing, at least, seven individuals have been identified. The five associated funerary objects are one urn, one lot consisting of lithic objects, one lot consisting of ceramic objects, one lot consisting of faunal fragments, and one lot consisting of unidentified materials. In the 1970s, David Topper removed six individuals and associated funerary objects from site 38AL2 “Cox/Fennel Hill” in Allendale County, SC and brought them to SCIAA. Between 1964 and 1968, Fred C. Cook removed one individual and associated funerary objects from the same site. Ceramic objects indicate the latter individual lived between 1200 and 1400 CE. Cook brought them to the Savannah River Archaeological Research Program (SRARP) of SCIAA at an unknown date. SRARP transferred them to Georgia Southern University in 2015 and 2018; GSU transferred them back to SCIAA to facilitate repatriation in 2024. These holdings are in the possession or control of SCIAA.

Human remains representing, at least, two individuals have been identified. The three associated funerary objects are one lot consisting of botanical material, one lot consisting of ceramic material, and one lot consisting of lithic material. In 2003, Keith Stephenson removed the individuals and funerary object from site 38AL11 “Lawton Mounds” in Allendale County, SC during an excavation for dissertation research at the University of Kentucky. The individuals and funerary object were brought to SCIAA in 2024 to facilitate repatriation. Lawton dates 1250-1350 CE. This holding is in the possession or control of SCIAA.

Human remains representing, at least, one individual have been identified. No associated funerary objects are present. In 1985, Dr. Albert Goodyear of SCIAA removed the individual from site 38AL23 “Topper” in Allendale County, SC with permission of landowner Sandoz Chemical Corporation. The individual was interred in an urn, which was retained in the possession or control of the landowner. The urn type indicates a date of 1350-1450 CE. This holding is in the possession or control of SCIAA.

Beaufort County

Human remains representing, at least, nine individuals have been identified. The one associated funerary object is one lot consisting of ceramic objects. In 1969, James L. Michie and William Fischer removed two individuals and the one associated funerary object from site 38BU9 “Daw's Island” in Beaufort County, SC and brought them to SCIAA that same year. In 1969, E. Thomas Hemmings of SCIAA removed one individual and brought them to SCIAA. In 1974, James L. Michie removed one individual and brought them to SCIAA at an unknown date. James L. Michie removed one individual and brought them to SCIAA at an unknown date. Richard Moody and Stanley Bond removed four individuals at an unknown date and brought them to SCIAA in 1978. The site dates to 3500-4000 BP. This holding is in the possession or control of SCIAA.

Human remains representing, at least, 16 individuals have been identified. The four associated funerary objects are one lot consisting of ceramic objects, one lot consisting of lithic objects, one lot consisting of botanical material, and one lot consisting of faunal material. In 1982, Mark Brooks of SCIAA removed the individuals and associated funerary objects from site 38BU19 “Callawassie Island Burial Mound” with the permission of landowner Three Fountainview Corporation of Hilton Head Island, South Carolina and brought them to SCIAA. The site dates to 1000-1500 CE. This holding is in the possession or control of SCIAA.

Human remains representing, at least, one individual have been identified. No associated funerary objects are present. In 1978-1979, SC Department of Transportation archaeologist Michael Trinkley removed the individual from site 38BU67, Pinckney Island, during a Section 106 compliance project on the Pinckney Island National Wildlife Refuge and brought them to the University of North Carolina-Chapel Hill. This holding is in the possession or control of the US FWS Pinckney Island National Wildlife Refuge.

Human remains representing, at least, seven individuals have been identified. The two associated funerary objects are one lot consisting of ceramic material and one lot consisting of faunal material. A citizen removed one individual and the two funerary objects from a beach washout at site 38BU114 “Barrow's Beach/Daw's Island” and brought them to SCIAA around 1992. Six individuals were brought to SCIAA at an unknown time by an unknown source. The site dates 3500-4000 BP. This holding is in the possession or control of SCIAA.

Berkeley County

In 1979, human remains representing, at minimum, one individual were removed from Moultrie #1 Site (38BK22), Berkeley County, SC. Michael Trinkley, a graduate student at the University of North Carolina at Chapel Hill, Research Laboratories of Archaeology, recorded the site and made surface collections. Trinkley noted several cremations eroding along the beach and collected the remains of one individual. Eroded materials were evident at the site due to its location on the shore of Lake Moultrie, which experiences low water levels in the winter. Trinkley also collected 171 pottery sherds, two stone tools, lithic debitage, and an animal bone. Thom's Creek and Cape Fear pottery found at the site suggests it was used between 2000 BC and A.D. 1000. No known individual was identified. No associated funerary objects are present. This holding is in the possession or control of the University of North Carolina at Chapel Hill, Research Laboratories of Archaeology.

Charleston County

Human remains representing, at least, 42 individuals have been identified. The 251 associated funerary objects are one ceramic vessel, nine ceramic sherds, 10 faunal elements, one stone object, five lots consisting of mica fragments, seven quartz pebbles, 217 shell beads, and one stone discoidal. In 1969, Stanley A. South of SCIAA removed the individuals and funerary objects from site 38CH1, Charles Towne Landing, during archaeological excavations prior to facility construction for Charles Towne Landing State Historic Site. Two calibrated radiocarbon dates obtained from the site provided a range of 1276-1387 CE and 1476-1789 CE. This holding is in the possession or control of the SCPRT.

In 1976 and 1979, human remains representing, at minimum, three individuals were removed from Lighthouse Point Site (38CH12), a shell ring in Charleston County, SC. The University of North Carolina at Chapel Hill, Research Laboratories of Archaeology conducted excavations supervised by graduate student Michael Trinkley under the direction of Joffre Coe. The excavations were undertaken in response to planned development. The shell ring at 38CH12 had been partly bulldozed prior to excavations, but lower portions were found to be intact. In 1976, one bone fragment was found on the ground surface. In 1979, another bone fragment was found on the ground surface. During curation, two additional bones were identified from a general context excavated in 1979 (Level 2 of Sq. 110R150). A total of 39 pit features were identified at Light House Point, none of which were interments. Thom's Creek pottery found at the site suggests the shell ring was constructed during the Late Archaic Period (3000 BC-1000 BC), although early colonial-period (A.D. 1600-A.D. 1700) artifacts were also found (kaolin pipe stems, gunflints, bottle glass) in both general contexts and in some pit features. No known individuals were identified. No associated funerary objects are present. This holding is in the possession or control of the University of North Carolina at Chapel Hill, Research Laboratories of Archaeology.

Human remains representing, at least, one individual have been identified. No associated funerary objects are present. In 1990, the individual was recovered from site number 38CH1210 by the Mt. Pleasant Police Department during house construction and released to SCIAA from the Charleston County Medical Examiner's Office. This holding is in the possession or control of SCIAA.

In 1976, human remains representing, at minimum, one individual were removed from the Venning Site (38CH2809), Charleston County, SC. The University of North Carolina at Chapel Hill, Research Laboratories of Archaeology conducted surface collections supervised by Michael Trinkley. A single human bone fragment was found on the ground surface. Additional surface collections included 158 pottery sherds, primarily Thom's Creek/Stallings series, suggesting use of the area during the Late Archaic Period (3000 BC-1000 BC). No known individual was identified. No associated funerary objects are present. This holding is in the possession or control of University of North Carolina at Chapel Hill, Research Laboratories of Archaeology.

Human remains representing, at least, five individuals have been identified. No associated funerary objects are present. In the mid-late 1990s, Robert Morgan removed the individuals from a burial in a housing development on Awendaw Landing that had been disturbed by road construction. They were brought to SCIAA in 2024 for repatriation. This holding is in the possession or control of SCIAA.

Colleton County

Human remains representing, at least, two individuals have been identified. No associated funerary objects are present. In 1993, Frank and Theresa Morning of the Mid-State Geological Research Team recovered one individual from a disturbed burial eroding from the shoreline at site 38CN200 Edisto Beach State Park and brought them to SCIAA. In 1994, Raymond Gay recovered one individual from a disturbed burial eroding from the shoreline at Edisto Beach and brought them to SCIAA. This holding is in the possession or control of SCPRT.

Hampton County

Human remains representing, at least, 11 individuals have been identified. One lot of associated funerary objects is present. In 1971, Thomas M. Ryan of SCIAA recovered one individual from a disturbed burial from site 38HA2 “Stokes Bluff Landing” with permission from landowners South Carolina Wildlife and Marine Resources Department (SCWMRD). In 1994, Christopher Judge of the South Carolina Department of Natural Resources Heritage Trust Program and State Archaeologist Jonathan Leader of SCIAA recovered ten individuals from a disturbed burial with the permission of SCWMRD and brought them to SCIAA. The site dates to 3000 BCE to 1520 CE. This holding is in the possession or control of SCIAA.

Human remains representing, at least, 26 individuals have been identified. One lot of associated funerary objects is present. In 1991 and 1992, Chester B. DePratter of SCIAA recovered 26 individuals and the one lot of associated funerary objects from site 38HA148 “Ware Creek Ridge” with permission from property owner Robert Winthrop II for Groton Land Company after the burials were disturbed by looting. Associated funerary objects indicate a site date of 1300-1425 CE. This holding is in the possession or control of SCIAA.

Cultural Affiliation

Based on the information available and the results of consultation, cultural affiliation is clearly identified by the information available about the human remains and associated funerary objects described in this notice.

Determinations

The Collaborating Museums have determined that:

• The human remains described in this notice represent the physical remains of 252 individuals of Native American ancestry.

• The 286 objects described in this notice are reasonably believed to have been placed intentionally with or near individual human remains at the time of death or later as part of the death rite or ceremony.

• There is a connection between the human remains and associated funerary objects described as “South Carolina Region 1 (Northeast Counties)” in this notice and the Catawba Indian Nation.

• There is a connection between the human remains and associated funerary objects described as “South Carolina Region 2 (Central Counties)” in this notice and the Catawba Indian Nation; Cherokee Nation; Eastern Band of Cherokee Indians; The Muscogee (Creek) Nation; and the United Keetoowah Band of Cherokee Indians in Oklahoma.

• There is a connection between the human remains and associated funerary objects described as “South Carolina Region 3 (Southeast Counties)” in this notice and the Catawba Indian Nation; Poarch Band of Creek Indians; Shawnee Tribe; and The Muscogee (Creek) Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after June 16, 2025. If competing requests for repatriation are received, the Collaborating Museums must determine the most appropriate requestor prior to repatriation. Requests for joint repatriation of the human remains and associated funerary objects are considered a single request and not competing requests. The Collaborating Museums are responsible for sending a copy of this notice to the Indian Tribes and Native Hawaiian organizations identified in this notice.

Authority: Native American Graves Protection and Repatriation Act, 25 U.S.C. 3003, and the implementing regulations, 43 CFR 10.10.

Dated: May 6, 2025.
Melanie O'Brien,
Manager, National NAGPRA Program.

[FR Doc. 2025-08780 Filed 5-15-25; 8:45 am]

BILLING CODE 4312-52-P